DEPARTMENT OF COMMERCE

National Oceanic and Atmospheric Administration

[I.D. 030106E]

New England Fishery Management Council; Public Meetings

AGENCY: National Marine Fisheries Service (NMFS), National Oceanic and Atmospheric Administration (NOAA), Commerce

ACTION: Notice of public meetings.

SUMMARY: The New England Fishery Management Council (Council) is scheduling a public meetings of its Monkfish Advisory Panel and Monkfish Oversight Committee in March, 2006 to consider actions affecting New England fisheries in the exclusive economic zone (EEZ). Recommendations from these groups will be brought to the full Council for formal consideration and action, if appropriate.

DATES: These meetings will be held on Thursday, March 23, 2006, at 9:30 a.m. and Friday, March 24, 2006, at 9:30 a.m.

ADDRESSES: These meetings will be held at the Holiday Inn, One Newbury Street, Peabody, MA 01960; telephone: (978) 535-4600; fax: (978) 535-8238.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The schedules and agendas for the meetings are as follows:

1. Thursday, March 23, 2006; Monkfish Advisory Panel meeting.

The advisory panel will review the monkfish stock status and rebuilding program, as well as other information and recommendations developed by the Monkfish Plan Development Team. In addition to developing recommendations to the Monkfish Committee on approaches to meet the stock rebuilding goals by 2009, the advisors will identify and discuss other issues for consideration in Framework 4 and, to the extent possible at this time, outline management approaches to address those concerns. The Panel's recommendations will be forwarded to the Monkfish Committee and the Council at their respective upcoming meetings.

2. Friday, March 24, 2006; Monkfish Oversight Committee meeting.

The committee will review the monkfish stock status and rebuilding program, as well as other information and recommendations developed by the Monkfish Plan Development Team. The Committee will also review and discuss the recommendations and proposals developed by the Monkfish Advisory Panel. In addition to outlining management approaches to meet the stock rebuilding goals by 2009 for consideration by the Council, the Committee will identify and discuss other issues for consideration in Framework 4 and, to the extent possible at this time, outline management approaches to address those concerns. The Committee's recommendations will be reported to the Council at its April 4-5 meeting.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: March 2, 2006.
Tracey L. Thompson,
Acting Director, Office of Sustainable Fisheries, National Marine Fisheries Service.

[FR Doc. E6-3155 Filed 3-6-06; 8:45 am]

BILLING CODE 3510-22-S